DEPARTMENT OF HEALTH AND HUMAN SERVICES

Centers for Medicare and Medicaid Services

[Document Identifier: CMS-10137]

Emergency Clearance: Public Information Collection Requirements Submitted to the Office of Management and Budget (OMB)

AGENCY: Center for Medicare and Medicaid Services.

In compliance with the requirement of section 3506(c)(2)(A) of the Paperwork Reduction Act of 1995, the Centers for Medicare and Medicaid Services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR part 1320. This is necessary to ensure compliance with an initiative of the Administration. We cannot reasonably comply with the normal clearance procedures because the use of normal clearance procedures is reasonably likely to cause a statutory deadline to be missed.

The Medicare Prescription Drug, Improvement, and Modernization Act of 2003 (MMA) established a program to offer prescription drug benefits to Medicare enrollees through Prescription Drug Plans, Medicare Advantage Organizations, and Cost Plans, PACE Plans and Employer Group Plans. The Medicare Prescription Drug Benefit program is codified in section 1860D of the Social Security Act (the Act). Section 101 of the MMA amended Title XVIII of the Social Security Act by redesignating Part D as Part E and inserting a Part D, which establishes the Voluntary Prescription Drug Benefit Program (hereinafter referred to as “Part D”). Prior to the 2007 contract year for the Part D program, the industry must have an appropriate amount of time to respond to the solicitation and CMS must have sufficient time to review and approve organizations that qualify for a Part D contract or service area expansion.

1. Type of Information Collection Request: Revision of a currently approved collection; Title of Information Collection: Application for Prescription Drug Plans (PDP); Application for Medicare Advantage Prescription Drug (MA-PD) Plans; Application for Cost Plans to Offer Qualified Prescription Drug Coverage; Application for PACE Organization to Offer Qualified Prescription Drug Coverage; Application for Employer Group Waiver Plans to Offer Prescription Drug Coverage; Service Area Expansion Application to Offer Prescription Drug Coverage in a New Region; Form Number: CMS-10137 (OMB#: 0938-0936); Use: Coverage for the prescription drug benefit will be provided through contracted prescription drug plans (PDPs) or through Medicare Advantage (MA) plans that offer integrated prescription drug and health care coverage (MA-PD plans). Cost Plans that are regulated under Section 1876 of the Social Security Act, Employer Group Waiver Plans (EGWP) and PACE plans may also provide a Part D benefit. Organizations wishing to provide services under the Prescription Drug Benefit Program must complete an application, negotiate rates, and receive final approval from CMS. Existing Part D Sponsors may also expand their contracted service area by completing the Service Area Expansion (SAE) application; Frequency: Reporting—Annually, depending on program area and data required; Affected Public: Business or other for-profit, Not-for-profit institutions, Federal Government; Number of Respondents: 101; Total Annual Responses: 101; Total Annual Hours: 3,828.

CMS is requesting OMB review and approval of this collection by January 20, 2006, with a 180-day approval period. Written comments and recommendation will be considered from the public if received by the individuals designated below by December 28, 2005.

To obtain copies of the supporting statement and any related forms for the proposed paperwork collections referenced above, access CMS's Web site address at http://www.cms.hhs.gov/regulations/pra or E-mail your request, including your address, phone number, and CMS document identifier, to Paperwork@cms.hhs.gov, or call the Reports Clearance Office on (410) 786-1326.

Interested persons are invited to send comments regarding the burden on or any other aspect of these collections of information requirements. However, as noted above, comments on these information collection and recordkeeping requirements must be mailed and/or faxed to the designees referenced below by December 28, 2005:

Centers for Medicare and Medicaid Services, Office of Strategic Operations and Regulatory Affairs, Room C4-26-05, 7500 Security Boulevard, Baltimore, MD 21244-1850, Fax Number: (410) 786-5267, Attn: William N. Parham, III; and

OMB Human Resources and Housing Branch, Attention: Carolyn Lovett, New Executive Office Building, Room 10235, Washington, DC 20503.

Dated: December 9, 2005.
Michelle Shortt,
Director, Regulations Development Group, Office of Strategic Operations and Regulatory Affairs.

[FR Doc. 05-24047 Filed 12-13-05; 8:45 am]

BILLING CODE 4120-01-M